DEPARTMENT OF COMMERCE

National Oceanic and Atmospheric Administration

RIN 0648-XB144

Endangered Species; File No. 13330

AGENCY: National Marine Fisheries Service (NMFS), National Oceanic and Atmospheric Administration (NOAA), Commerce.

ACTION: Notice; issuance of permit modification.

SUMMARY: Notice is hereby given that NMFS Southeast Fisheries Center (SEFSC) (hereinafter “Permit Holder”); 75 Virginia Beach Drive, Miami, FL 33149 [Responsible Party: Bonnie Ponwith, Ph.D.], has been issued a modification to scientific research Permit No. 13330-01.

ADDRESSES: The modification and related documents are available for review upon written request or by appointment in the following offices:

Permits and Conservation Division, Office of Protected Resources, NMFS, 1315 East-West Highway, Room 13705, Silver Spring, MD 20910; phone (301) 427-8401; fax (301) 713-0376; and Southeast Region, NMFS, 263 13th Avenue South, St. Petersburg, FL 33701; phone (727) 824-5312; fax (727) 824-5309.

FOR FURTHER INFORMATION CONTACT: Colette Cairns or Malcolm Mohead, (301) 427-8401.

SUPPLEMENTARY INFORMATION: On April 2, 2012, notice was published in the Federal Register (77 FR 19648) that a modification of Permit No. 13330-01, issued March 17, 2011, (76 FR 14650), had been requested by the above-named organization. The requested modification has been granted under the authority of the Endangered Species Act of 1973, as amended (ESA; 16 U.S.C. 1531 et seq.) and the regulations governing the taking, importing, and exporting of endangered and threatened species (50 CFR 222-226).

Permit No. 13330-01 authorizes the permit holder to: Capture 45 smalltooth sawfish (15 from each of three life stages) annually by longline, gillnet, seine net, drum (set) lines, or rod and reel throughout Florida's coastal waters, primarily from Naples to Key West. Sawfish are measured, tagged, sampled, and released. Current tagging methods include rototags (fin tags), dart tags, umbrella dart tags, Passive Integrated Transponder tags, acoustic transmitters, and Pop-Up Archival Transmitting tags. Tissue and blood samples are also taken. The permit holder is now authorized for an increase in take numbers to 50 individuals from the neonate life stage, and 20 each from the juvenile and adult life stages for a total of 90 smalltooth sawfish annually. All research objectives, capture methods, action areas, and activities remain unchanged. The modification is valid until the permit expires on October 31, 2013.

Issuance of this modification, as required by the ESA was based on a finding that such permit (1) was applied for in good faith, (2) will not operate to the disadvantage of such endangered or threatened species, and (3) is consistent with the purposes and policies set forth in section 2 of the ESA.

Dated: September 12, 2012.
Tammy C. Adams,
Acting Chief, Permits and Conservation Division, Office of Protected Resources, National Marine Fisheries Service.

[FR Doc. 2012-22998 Filed 9-17-12; 8:45 am]

BILLING CODE 3510-22-P